DEPARTMENT OF HEALTH AND HUMAN SERVICES

Centers for Disease Control and Prevention

[30DAY-49-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Projects

Evaluative Research for the National Bone Health Education Campaign—New—National Center for Chronic Disease Prevention and Health Promotion (NCCDPHP), Centers for Disease Control and Prevention (CDC), in cooperation with the Office on Women's Health, is developing a national osteoporosis prevention campaign targeting girls ages 9-18—the National Bone Health Campaign (NBHC). The 5-year campaign will begin by targeting girls ages 9-12 and their parents and then expand to girls 13-18 and their parents. Funding for the campaign has been approved for the first two years of the program, so the research presented here is only that to be conducted in the those two years.

The research will consist of: (1) Message tests with representative samples of 200 girls ages 9-12, 200 girls ages 13-18 and 200 parents of girls ages 9-12; (2) Baseline telephone surveys of representative samples of 1000 girls 9-12 and 1000 girls 13-18; (3) Follow-up survey of representative sample of 1000 girls ages 9-12; and (4) Annual surveys of 400 girls 9-12 and annual surveys of 200 parents of girls 9-12 in five “sentinel” sites.

Specifically, the purpose of the research is to (1) Pre-test campaign messages to ensure that they are attention-getting, understandable, personally relevant, and credible for the target audiences; (2) Provide ongoing assessment of campaign events and their effects in five “sentinel” sites; and (3) Provide an overall measure of the campaign's effectiveness over time.

The results of the proposed research will be used to identify and develop effective campaign messages and strategies to promote bone healthy attitudes, knowledge and behaviors among the primary and secondary audiences, and to assist program planners in assessing and refining program tactics. The research will also provide a measure of the success of the program in increasing awareness of bone healthy activities and improving knowledge and attitudes related to those activities among the primary target audience (girls 9-18). The research will also be shared with NBHEC partners (various public and private agencies or organizations) for use in designing and implementing collaborative programs and messages at the national and local levels.

The total annualized burden is estimated to be 2,000 hours.

| No. of respondents | Responses per respondent | Hours per response
National baseline survey of girls ages 9-18 | 1,000 (9-12) 1,000 (13-18) | 1 1 | 20/60 20/60
National follow-up survey of girls ages 9-12 | 1,000 | 1 | 20/60
3 sentinel site surveys of girls ages 9-12 | 2,000 | 1 | 20/60
3 sentinel site surveys of parents of girls ages 9-12 | 1,000 | 1 | 20/60

Dated: June 30, 2000.
Kathy Cahill,
Associate Director for Policy, Planning and Evaluation, Centers for Disease Control and Prevention (CDC).

[FR Doc. 00-17227 Filed 7-6-00; 8:45 am]

BILLING CODE 4163-18-P